FEDERAL COMMUNICATIONS COMMISSION

47 CFR Parts 1 and 54

[WC Docket No. 10-90, WT Docket No. 10-208; Report No. 3077]

Petitions for Reconsideration and/or Clarification of Action in Rulemaking Proceeding

AGENCY: Federal Communications Commission.

ACTION: Petitions for reconsideration and/or clarification.

SUMMARY: Petitions for Reconsideration and/or Clarification (Petitions) have been filed in the Commission's rulemaking proceeding by Caressa D. Bennet, on behalf of Rural Wireless Association, Inc.; Krista L. Witanowski, on behalf of CTIA; Brian Gelfand, on behalf of Buffalo-Lake Erie Wireless Systems, L.L.C. (Blue Wireless); Robert A. Silverman, on behalf of Panhandle Telephone Cooperative, Inc. and Pine Belt Cellular, Inc.; John Prendergast, on behalf of the Blooston Rural Carriers; David A. LaFuria, on behalf of Rural Wireless Carriers; and Cathleen A. Massey, on behalf of T-Mobile USA, Inc.

DATES: Oppositions to the Petitions must be filed on or before May 16, 2017. Replies to an opposition must be filed on or before May 26, 2017.

ADDRESSES: Federal Communications Commission, 445 12th Street SW., Washington, DC 20554.

FOR FURTHER INFORMATION CONTACT: Mark Montano, Wireless Telecommunications Bureau, (202) 418-0691, email: mark.montano@fcc.gov.

SUPPLEMENTARY INFORMATION: This is a summary of Commission's document, Report No. 3077, released May 1, 2017. The full texts of the Petitions are available for viewing and copying at the FCC Reference Information Center, 445 12th Street SW., Room CY-A257, Washington, DC 20554 or may be accessed online via the Commission's Electronic Comment Filing System at http://apps.fcc.gov/ecfs/. The Commission will not send a Congressional Review Act (CRA) submission to Congress or the Government Accountability Office pursuant to the CRA, 5.U.S.C. because no rules are being adopted by the Commission.

Subject: Connect America Fund; Universal Service Reform—Mobility Fund, Report and Order, FCC 17-11, published at 82 FR 15422, March 28, 2017, in WC Docket No. 10-90 and WT Docket No. 10-208. This document is being published pursuant to 47 CFR 1.429(e). See also 47 CFR 1.4(b)(1) and 1.429(f), (g).

Number of Petitions Filed: 7.

Federal Communications Commission.
Marlene H. Dortch,
Secretary.

[FR Doc. 2017-09462 Filed 5-9-17; 8:45 am]

BILLING CODE 6712-01-P